DEPARTMENT OF STATE

[Public Notice 3669]

Shipping Coordinating Committee; Notice of Meeting

The Shipping Coordinating Committee will conduct an open meeting at 1 PM on Tuesday, June 19, 2001, in Room 6332, Department of Transportation Headquarters, Nassif Building, 400 Seventh Street, SW., Washington, DC 20590-0001. The purpose of the meeting is to finalize preparations for the Sixth Session of the Subcommittee on Dangerous Goods, Solid Cargoes and Containers of the International Maritime Organization (IMO) which will be held on July 16-20, 2001, at the IMO Headquarters in London.

The agenda items of particular interest are:

—Amendment 31-02 to the International Maritime Dangerous Goods (IMDG) Code, its Annexes and Supplements including harmonization of the IMDG Code with the United Nations Recommendations on the Transport of Dangerous Goods, and implementation of Annex III of the Marine Pollution Convention (MARPOL 73/78), as amended.

—Revision of the Emergency Schedules (EmS).

—Review of the Code of Safe Practice for Solid Bulk Cargoes (BC Code), including evaluation of properties of solid bulk cargoes.

—Cargo securing manual.

—Casualty and incident reports and analysis.

—Development of an instrument for multimodal training requirements.

—Stowage and segregation requirements for freight containers on containerships with partially weatherproof hatchway covers.

—Development of a manual on loading and unloading of solid bulk cargoes for terminal representatives.

—Amendments to the International Convention for the Safety of Life at Sea (SOLAS) chapters VI and VII and MARPOL Annex III to make the IMDG Code mandatory.

Members of the public may attend this meeting up to the seating capacity of the room. Interested persons may seek information by writing: Mr. E. P. Pfersich, U.S. Coast Guard (G-MSO-3), 2100 Second Street, SW., Washington, DC 20593-0001 or by calling (202) 267-1577.

Dated: May 24, 2001.
Stephen M. Miller,
Exective Secretary, Shipping Coordinating Committee, U.S. Department of State.

[FR Doc. 01-13807 Filed 5-31-01; 8:45 am]

BILLING CODE 4710-07-P